DEPARTMENT OF TRANSPORTATION

National Highway Traffic Safety Administration

49 CFR Part 571

[U.S. DOT Docket Number NHTSA-2005-21971]

Federal Motor Vehicle Safety Standards; Occupant Crash Protection

AGENCY: National Highway Traffic Safety Administration (NHTSA), U.S. Department of Transportation (DOT).

ACTION: Denial of petition for rulemaking.

SUMMARY: This document denies a petition for rulemaking to amend the definition of frontal air bag system in Federal Motor Vehicle Safety Standard (FMVSS) No. 208, “Occupant crash protection.” NHTSA has addressed this issue in a recent final rule dated November 19, 2003, and in an interpretation letter dated July 19, 2004.

FOR FURTHER INFORMATION CONTACT: For non-legal issues: Christopher Wiacek, Office of Crashworthiness Standards, NVS-112, National Highway Traffic Safety Administration, 400 Seventh Street, SW., Washington, DC 20590. Telephone: (202) 366-4801. Fax: (202) 366-7002.

For legal issues: Christopher Calamita, Office of Chief Counsel, NCC-20, National Highway Traffic Safety Administration, 400 Seventh Street, SW., Washington, DC 20590. Telephone: (202) 366-2992. Fax: (202) 366-3820.

SUPPLEMENTARY INFORMATION:

I. Background

On May 12, 2000, NHTSA amended FMVSS No. 208 to require that future air bags be designed to create less risk of serious air bag induced injuries than current air bags, particularly for small women and young children; and provide improved frontal crash protection for all occupants, by means that include advanced air bag technology (65 FR 30680; advanced air bag rule). The advanced air bag rule adopted a low risk deployment (LRD) test to address the risk air bags pose to out-of position occupants, particularly those of small stature. The test is performed by activating a frontal air bag system with a test dummy in “worst case” positions. For the driver position, this included placing a 5th percentile adult female test dummy's chin on the module and on the steering wheel. For the passenger position, this included placing a child dummy's head and chest in close proximity to the right front passenger air bag module.

In a November 19, 2003, final rule, the agency specifically addressed which air bag system components are fired in the LRD test in response to a request for a clarification from DaimlerChrysler. The agency stated, “While neither “air bag [system]” or “inflatable restraint [system]” is defined in FMVSS No. 208 or any other place in 49 CFR part 571, the intent of the term “air bag” is to describe the components that make up the passenger-side dash-mounted and driver-side steering wheel hub-mounted, inflatable restraints used for occupant protection in a frontal impact. This does not refer to any other pyrotechnic system such as a belt pretensioner or inflatable knee bolster (69 FR 65179, 65186).”

On May 26, 2004, Toyota requested NHTSA's official interpretation of the definition of “air bag system” as applicable to FMVSS No. 208. NHTSA responded on July 19, 2004, by stating “the intent of the term air bag is to describe the components that make up the passenger-side dash mounted and driver-side steering wheel hub-mounted, inflatable restraint used for occupant protection in a frontal impact. This does not refer to any other pyrotechnic system such as a belt pretensioner or inflatable knee bolster.”

II. The Petition

On January 27, 2005, the Toyota Motor North America, Inc. (Toyota), petitioned NHTSA to amend FMVSS No. 208 Section 16.3.1 General provisions and definitions by adding Section 16.3.1.14 as follows:

16.3.1.14 The term “frontal air bag system” describes the components that make up the driver- and front passenger inflatable restraints used for occupant protection in a frontal impact.

Toyota believes the current definition of “air bag” is restrictive and believes this constraint limits alternative passive restraint technologies in order to provide appropriate levels of occupant protection. They also opined that the current definition is limiting in that it suggests that manufacturers will always design passive restraints systems that will deploy from the steering wheel hub or dash.

III. Discussion and Analysis

Toyota requested that the definition of “air bag” be expanded to include all frontal inflatable restraints, specifically as it applies to S26, Procedure for low risk deployment tests of driver air bag. As explained in the July 19, 2004 interpretation letter, the agency does not have data available on the effect that deploying devices, other than the frontal passenger-side dash mounted and driver-side steering wheel hub-mounted air bags, will have on the advanced air bag rule low risk deployment test procedure. Nor does the agency have any data on the performance of any other pyrotechnic devices for out-of-position occupants in the field. Furthermore, there is concern that deploying other pyrotechnic devices could negatively impact the repeatability of the low risk deployment test even though they might deploy in real world crashes. For these reasons, the agency is denying the Toyota petition. In accordance with 49 CFR part 552, this completes the agency's review of the petition for rulemaking.

Authority: 49 U.S.C. 30162; delegations of authority at 49 CFR 1.50 and 49 CFR 501.8.

Issued on: August 4, 2005.
Stephen R. Kratzke,
Associate Administrator for Rulemaking.

[FR Doc. 05-15957 Filed 8-10-05; 8:45 am]

BILLING CODE 4910-59-P